DEPARTMENT OF HOMELAND SECURITY

Transportation Security Administration

Intent to Request Renewal From OMB of One Current Public Collection of Information: Aviation Security Customer Satisfaction Performance Measurement Passenger Survey

AGENCY: Transportation Security Administration (TSA), DHS.

ACTION: Notice.

SUMMARY: TSA invites public comment on one currently approved information collection requirement abstracted below that we will submit to the Office of Management and Budget (OMB) for renewal in compliance with the Paperwork Reduction Act.

DATES: Send your comments by May 19, 2006.

ADDRESSES: Comments may be mailed or addressed to Katrina Wawer, Attorney-Advisor, Office of Chief Counsel, TSA-02, Transportation Security Administration, 601 South 12th Street, Arlington, VA 22202-4220.

FOR FURTHER INFORMATION CONTACT: Katrina Wawer at the above address, by telephone (571) 227-1995 or facsimile (571) 227-1381.

SUPPLEMENTARY INFORMATION:

Comments Invited

In accordance with the Paperwork Reduction Act of 1995, (44 U.S.C. 3501 et seq.), an agency may not conduct or sponsor, and a person is not required to respond to a collection of information, unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

1652-0013; Aviation Security Customer Satisfaction Performance Measurement Passenger Survey. TSA, with OMB's approval, has collected data via the following instruments and now seeks approval to continue this effort:

(1) Statistically Valid Intercept Surveys. Between 2003 and 2005, TSA conducted two statistically valid passenger surveys at airports nationwide. The surveys were administered using an intercept methodology, in which passengers were handed survey forms soon after they experienced TSA's aviation security functions and were invited to mail the forms back. Passengers who received surveys were selected randomly, such that the sample of passengers that received surveys at each airport over the survey period was representative of all passenger demographics-including passengers who—

• Traveled on weekdays or weekends;

• Those who traveled in the morning, mid-day, or evening;

• Those who passed through each of the different security screening locations in the airport;

• Those who were subject to more intensive screening of their baggage or person; and

• Those who experienced different volume conditions and wait times as they proceeded through the security checkpoint.

The surveys were also representative of passenger identity factors, such as gender, frequency of travel, and purpose of the trip as business or leisure.

Participation by passengers was voluntary. TSA Headquarters supplied independent administrators to each site to distribute the survey forms. The administrators were not TSA employees and handled the forms and data independently of TSA in an effort to (1) ensure the validity of the results, and (2) allow quality assurance and monitoring from TSA Headquarters. The form included approximately 10 questions about aspects of the passenger experience, including approximately three demographic questions.

Dates, times, and screening locations were chosen within each airport in order to provide a statistically valid representation of customer satisfaction over the survey period. Airports were chosen to represent the experience of most passengers and included major airports, as well as a few smaller ones to gain a more complete picture of the traveling public. TSA intends to continue to conduct up to two surveys annually, each with a target of 500 returned forms at 25-35 major airports. TSA estimates an annual total of 35,000 respondents (1 survey per airport x 70 airports x 500 returned forms per survey) and, based on an estimate of a five-minute burden per respondent, a maximum total annual burden system-wide of 2,500 hours. There is no burden on passengers who choose not to respond. Respondents will not incur any financial burden as TSA will pay the postage for the surveys.

(2) Focus Groups. TSA conducted 12 focus groups in fall 2002 and 12 in fall 2003 to aid in the design of the Customer Satisfaction Index survey referenced above. The purpose of the focus groups was to understand the factors better that contribute to customer satisfaction and public confidence. TSA proposes to conduct an additional 12 focus groups during fall 2006 and, thereafter, an additional 12 annually to ensure that the current survey questions are still effective in measuring the drivers of customer satisfaction, particularly in light of new TSA initiatives. Non-TSA, professional, and independent facilitators will moderate the focus group sessions to (1) ensure the validity of the results, and (2) allow for quality assurance and monitoring from TSA Headquarters. The selection of participants in the focus groups will be intentionally diverse with respect to age, gender, etc. Each session will last 60-90 minutes. The total time burden for all participants combined will be approximately 216 hours (1.5 hours x 12 participants x 12 focus groups). As with previous focus groups, TSA will use the results of the focus groups to identify factors affecting the public's satisfaction and confidence.

(3) Informal Surveys Conducted by Airport Staff. Finally, TSA seeks approval to continue conducting informal surveys at individual airports to collect performance data for improved customer service. Airport staff used these informal surveys most often to test passenger response to service improvements implemented in response to identified service problems. The results were used to enable localized service improvements at each airport. Participation by passengers was voluntary. TSA Headquarters will continue to provide a list of approximately 25 approved questions, from which airports can select a subset, and a Headquarters-designed and -approved template for the survey form.

Surveys will be conducted at the discretion of the TSA airport staff, subject to a limit (as imposed by TSA Headquarters and pending approval of the Office of Management and Budget) of a five-minute burden per respondent and an aggregate burden of 100 hours per airport per year. Assuming that all 446 airports employ this process, the aggregate system-wide burden will not exceed 44,600 hours per year. There is no burden on passengers who choose not to respond.

Issued in Arlington, Virginia, on March 14, 2006.
Lisa S. Dean,
Privacy Officer.

[FR Doc. E6-3954 Filed 3-17-06; 8:45 am]

BILLING CODE 4910-62-P